DEPARTMENT OF DEFENSE

Office of the Secretary

32 CFR Part 189

[DOD Directive 4700.3]

Mineral Exploration and Extraction on DOD Lands

AGENCY: Department of Defense.

ACTION: Final rule.

SUMMARY: This document removes information in Title 32 of the Code of Federal Regulations concerning Mineral Exploration and Extraction on DOD Lands. This part has served the purpose for which it was intended in the CFR and is no longer necessary.

EFFECTIVE DATE: March 29, 2005.

FOR FURTHER INFORMATION CONTACT: Jeannette Owings-Ballard (703) 601-4722*140.

SUPPLEMENTARY INFORMATION: The revised DOD Directive 4165.6 is available at http://www.dtic.mil/whs/directives/corres/dir1.html.

List of Subjects in 32 CFR Part 189

DOD controlled lands.

PART 189—[REMOVED]

Accordingly, by the authority of 10 U.S.C. 301, 32 CFR part 189 is removed.

Dated: March 22, 2005.
L.M. Bynum,
Alternate OSD Federal Register Liaison Officer, Department of Defense.

[FR Doc. 05-6123 Filed 3-28-05; 8:45 am]

BILLING CODE 5001-06-P